DEPARTMENT OF HOUSING AND URBAN DEVELOPMENT

[Docket No. FR-5724-N-02]

Annual Factors for Determining Public Housing Agency Administrative Fees for the Section 8 Housing Choice Voucher and Moderate Rehabilitation Programs; Notice of Availability on HUD's Web site

AGENCY: Office of the Assistant Secretary for Public and Indian Housing, HUD.

ACTION: Notice.

SUMMARY: This notice announces the availability on HUD's Web site of the annual factors for determining the on-going administrative fee for housing agencies administering the rental voucher and moderate rehabilitation programs, including Single Room Occupancy during Calendar Year (CY) 2013.

DATES: Effective January 1, 2013.

FOR FURTHER INFORMATION CONTACT: Miguel Fontanez, Director, Housing Voucher Financial Management Division, Office of Public Housing and Voucher Programs, Office of Public and Indian Housing, Department of Housing and Urban Development, Room 4222, 451 Seventh Street SW., Washington, DC 20410-8000, telephone number 202-402-2934. (This is not a toll-free number). Hearing or speech impaired individuals may access this number via TTY by calling the toll-free Federal Relay Service during business hours at 1-800-877-8337.

SUPPLEMENTARY INFORMATION: The annual factors for determining public housing agency administrative fees for the Section 8 Housing Choice Voucher and Moderate Rehabilitation Programs can be found on HUD's Web site at http://portal.hud.gov/hudportal/HUD?src=/program_offices/public_indian_housing/programs/hcv.

The notice posted on HUD's Web site provides the methodology that HUD used to determine the CY 2013 administrative fees rates by area, which the Office of Housing Voucher Programs (OHVP) will utilize to compensate public housing authorities (PHAs) for administering the Housing Choice Voucher (HCV) programs. PIH Notice 2013-12, Implementation of the Federal Fiscal Year (FY) 2013 Funding Provision for the Housing Choice Voucher Program, issued on May 23, 2013, describes the settlement process for this compensation, which will be a result of the mandate enacted in the “Consolidated and Further Continuing Appropriations Act, 2013” (Pub. L. 113-6), referred to hereinafter as “the Appropriations Act”, signed on March 27, 2013. PIH Notice 2013-12 can be found at http://portal.hud.gov/hudportal/documents/huddoc?id=13-12pihn.pdf.

Dated: September 24, 2013.
Sandra B. Henriquez
Assistant Secretary for Public and Indian Housing.

[FR Doc. 2013-23748 Filed 9-27-13; 8:45 am]

BILLING CODE 4210-67-P